DEPARTMENT OF THE TREASURY

Office of Thrift Supervision

Privacy Act of 1974, as Amended

AGENCY: Office of Thrift Supervision, Treasury.

ACTION: Notice of proposed alterations to six Privacy Act systems of records.

SUMMARY: In accordance with the requirements of the Privacy Act of 1974, as amended, the Department of the Treasury, Office of Thrift Supervision (OTS), gives notice of proposed alternations to six Privacy Act systems of records, as follows: OTS .002—Correspondence/Correspondence Tracking; OTS .003—Consumer Complaints; OTS .006—Employee Locator File; OTS .008—Employee Training Database; OTS .011—Positions/Budget; OTS .012—Payroll/Personnel Systems & Payroll Records.

DATES: Comments must be received no later than May 18, 2007. The proposed altered systems will become effective May 29, 2007, unless the OTS receives comments which cause reconsideration of this action.

ADDRESSES: Comments should be sent to the Office of Chief Counsel, Office of Thrift Supervision, 1700 G Street, NW., Washington, DC 20552. To arrange to see the comments, see FOR FURTHER INFORMATION CONTACT below.

FOR FURTHER INFORMATION CONTACT: Dirk S. Roberts, Special Counsel, at (202) 906-7631 or by electronic mail, dirk.roberts@ots.treas.gov.

SUPPLEMENTARY INFORMATION: The OTS currently maintains nine Privacy Act systems of records. Notices describing these systems of records were most recently published at 70 FR 41085, July 15, 2005. The OTS proposes to add two routine uses to each of the six systems identified above authorizing disclosures in connection with litigation, as follows.

Information may be disclosed in civil, criminal, administrative or arbitration proceedings before a court, magistrate, administrative or arbitration tribunal in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding. To assure that the agency and its employees receive appropriate representation in legal proceedings, relevant information may be disclosed to the Department of Justice, private counsel, or an insurance carrier for the purpose of defending an action or seeking legal advice.

In addition, OTS proposes to add two additional routine uses to one system identified above, OTS .012 Payroll/Personnel Systems & Payroll Records, authorizing disclosure relating to garnishment orders, as follows:

Information may be disclosed to respond to government authorities in connection with garnishment proceedings. Information may be disclosed to private creditors for the purpose of garnishment of wages of an employee if the debt has been reduced to a judgment.

The report of the altered systems of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

The six proposed altered systems of records, described above, are published in their entirety below.

Dated: April 11, 2007.
Wesley T. Foster,
Acting Assistant Secretary for Management.

TREASURY/OTS .002

System Name:

Correspondence/Correspondence Tracking.

System Location:

Office of Thrift Supervision, 1700 G Street, NW., Washington, DC 20552.

Categories of Individuals Covered by the System:

White House and Executive Office of the President officials, Members of Congress, Treasury Department officials, the general public, and businesses.

Categories of Records in the System:

Incoming correspondence addressed to the Director of OTS, letters from members of Congress transmitting letters from constituents or making inquiries; OTS responses; OTS memoranda and notes used to prepare responses; and information concerning internal office assignments, processing and response to the correspondence.

Purpose(s):

To maintain written records of correspondence addressed to the Director of OTS and Congressional correspondence; to track the progress of the response; to document the completion of the response to the incoming correspondence.

Routine Uses of Records Maintained in the System, Including Categories of Users and the Purpose of Such Uses:

(1) Disclosures may be made to a Congressional office from the records of an individual in response to an inquiry made at the request of the individual to whom the record pertains;

(2) Information may be disclosed to the appropriate governmental agency charged with the responsibility of administering law or investigating or prosecuting violations of law or charged with enforcing or implementing a statute, rule, regulation, order or license;

(3) Information may be disclosed in civil, criminal, administrative or arbitration proceedings before a court, magistrate, administrative or arbitration tribunal, in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding;

(4) To assure that the agency and its employees receive appropriate representation in legal proceedings, relevant information may be disclosed to the Department of Justice, private counsel, or an insurance carrier for the purpose of defending an action or seeking legal advice.

Policies and Practices for Storing, Retrieving, Accessing, Retaining, Disposing of Records in the System:

Storage:

Records are maintained on electronic media and in paper files.

Retrievability:

Records are maintained by name of individual; assignment control number.

Safeguards:

Access to paper records is limited to authorized personnel with a direct need to know. Some paper records are maintained in locked file cabinets in a secured office with access limited to those personnel whose official duties require access. Access to computerized records is limited, through the use of a password, to those whose official duties require access.

Retention and Disposal:

Computerized records relating to non-congressional correspondence are retained for two (2) years after the Director's term. Computerized records relating to congressional correspondence are kept permanently. Paper records are retained for two (2) years after the Director's or member of Congress' term, then transferred directly to the National Archives.

System Manager(s) and Address:

Managing Director, Congressional Affairs, Office of Thrift Supervision, 1700 G Street, NW., Washington, DC 20552.

Notification Procedure:

Individuals wishing to be notified if they are named in this system or gain access to records maintained in the system must submit a request containing the following elements: (1) Identify the record system; (2) identify the category and type of records sought; and (3) provide at least two items of secondary identification (date of birth, employee identification number, dates of employment or similar information). Address inquiries to FOIA Office, Office of Thrift Supervision, 1700 G Street, NW., Washington, DC 20552.

Records Access Procedures:

See “Notification Procedure” above.

Contesting Record Procedures:

See “Notification Procedure” above.

Record Source Categories:

Congressional letters and responses from a Member of Congress and/or a constituent.

Exemptions Claimed for the System:

None.

TREASURY/OTS .003

System Name:

Consumer Complaint System.

System Location:

(1) Office of Thrift Supervision, 1700 G Street, NW., Washington, DC 20552.

(2) Northeast Region: Harborside Financial Center Plaza Five, Suite 1600, Jersey City, NJ 07311.

(3) Southeast Region: 1475 Peachtree Street, NE., Atlanta, GA 30309.

(4) Midwest Region: 225 E. John Carpenter Freeway, Suite 500, Irving, TX 75062.

(5) West Region: Pacific Plaza, 2001 Junipero Serra Boulevard, Suite 650, Daly City, CA 94014.

Categories of Individuals Covered by the System:

Persons who submit inquiries or complaints concerning federally insured depository institutions, service corporations, and subsidiaries.

Categories of Records in the System:

Consumer's name, savings association's docket number, case number as designated by a Consumer Complaint Case number. Within these categories of records, the following information may be obtained: consumer's address, source of inquiry or complaint, nature of the inquiry or complaint, nature of the inquiry or complaint designated by instrument and complaint code, information on the investigation and resolution of inquiries and complaints.

Authority for Maintenance of the System:

15 U.S.C. 57a(f), 5 U.S.C. 301.

Purpose(s):

OTS uses this system to track individual complaints and to provide additional information about each institution's compliance with regulatory requirements.

Routine Uses of Records Maintained in the System, Including Categories of Users and the Purpose of Such Uses:

(1) Information may be disclosed to officials of regulated savings associations in connection with investigation and resolution of complaints and inquiries:

(2) Relevant information may be made available to appropriate law enforcement agencies or authorities in connection with investigation and/or prosecution of alleged civil, criminal and administrative violations;

(3) Disclosures may be made to a Congressional office in response to an inquiry made at the request of the individual to whom the record pertains;

(4) Disclosures may be made to other Federal and nonfederal governmental supervisory or regulatory authorities when the subject matter is within such other agency's jurisdiction;

(5) Information may be disclosed in civil, criminal, administrative or arbitration proceedings before a court, magistrate, administrative or arbitration tribunal, in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding;

(6) To assure that the agency and its employees receive appropriate representation in legal proceedings, relevant information may be disclosed to the Department of Justice, private counsel, or an insurance carrier for the purpose of defending an action or seeking legal advice.

Policies and Practices for Storing, Retrieving, Accessing, Retaining, Disposing of Records in the System:

Storage:

Records are maintained in paper files and on electronic media.

Retrievability:

By name of individual; complaint case number, savings association name, docket number, region complaint code, instrument code, source code or by some combination thereof.

Safeguards:

Paper records are maintained in locked file cabinets with access limited to those personnel whose official duties require access. Access to computerized records is limited, through use of the system passwords, to those whose official duties require access.

Retention and Disposal:

Active paper files are maintained until the case is closed. Closed files are retained six (6) years then destroyed.

System Manager(s) and Address:

Director, Consumer Protection and Specialized Programs, Office of Thrift Supervision, 1700 G Street, NW., Washington, DC 20552.

Notification Procedure:

Individuals wishing to be notified if they are named in this system or gain access to records maintained in this system must submit a request containing the following elements: (1) Identify the record system; (2) identify the category and type of records sought; and (3) provide at least two items of secondary identification (date of birth, employee identification number, dates of employment or similar information). Address inquiries to FOIA Office, Office of Thrift Supervision, 1700 G Street, NW., Washington, DC 20552.

Records Access Procedures:

See “Notification Procedure” above.

Contesting Record Procedures:

See “Notification Procedure” above.

Record Source Categories:

Inquirer or complainant (or his or her representative which may include a member of Congress or an attorney); savings association officials and employees; compliance/safety and soundness examiner(s); and other supervisory records.

Exemptions Claimed for the System:

None.

TREASURY/OTS .006

System Name:

Employee Locator File.

System Location:

(1) Office of Thrift Supervision, 1700 G Street, NW., Washington, DC 20552.

(2) Northeast Region: Harborside Financial Center Plaza Five, Suite 1600, Jersey City, NJ 07311.

(3) Southeast Region: 1475 Peachtree Street, NE., Atlanta, GA 30309.

(4) Midwest Region: 225 E. John Carpenter Freeway, Suite 500, Irving, TX 75062.

(5) West Region: Pacific Plaza, 2001 Junipero Serra Boulevard, Suite 650, Daly City, CA 94014.

Categories of Individuals Covered by the System:

All present employees of the OTS and persons whose employment has been terminated within the last six months.

Categories of Records in the System:

Employee's name, present address, telephone number, and the name, address, and telephone number of another person to notify in case of emergency.

Authority for Maintenance of the System:

5 U.S.C. 301, 44 U.S.C. 3101.

Purpose(s):

This system provides current information on employee's address and emergency contact person.

Routine Uses of Records Maintained in the System, Including Categories of Users and the Purpose of Such Uses:

(1) Disclosure of information may be made to a congressional office in response to an inquiry made at the request of the individual to whom the record pertains;

(2) Medical personnel in case of an emergency;

(3) Information may be disclosed in civil, criminal, administrative or arbitration proceedings before a court, magistrate, administrative or arbitration tribunal in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding;

(4) To assure that the agency and its employees receive appropriate representation in legal proceedings, relevant information may be disclosed to the Department of Justice, private counsel, or an insurance carrier for the purpose of defending an action or seeking legal advice.

Policies and Practices for Storing, Retrieving, Accessing, Retaining, Disposing of Records in the System:

Storage:

Records are maintained on electronic media.

Retrievability:

Records are filed by name of individual.

Safeguards:

System access is limited to those personnel whose official duties require such access and who have a need to know information in a record for a particular job-related purpose.

Access to computerized records is limited, through use of a password, to those whose official duties require access.

Retention and Disposal:

Records are maintained until termination of employee's employment with OTS. After termination, records are retained for six months then destroyed.

System Manager(s) and Address:

Director, Human Resources, Office of Thrift Supervision, 1700 G Street, NW., Washington, DC 20552.

Notification Procedure:

Individuals wishing to be notified if they are named in this system or gain access to records maintained in this system must submit a request containing the following elements: (1) Identify the record system; (2) identify the category and type of records sought; and (3) provide at least two items of secondary identification (date of birth, employee identification number, dates of employment or similar information). Address inquiries to FOIA Office, Office of Thrift Supervision, 1700 G Street, NW., Washington, DC 20552.

Records Access Procedures:

See “Notification Procedure” above.

Contesting Record Procedures:

See “Notification Procedure” above.

Record Source Categories:

The individual whose record is being maintained.

Exemptions Claimed for the System:

None.

TREASURY/OTS .008

System Name:

Employee Training Database.

System Location:

Office of Thrift Supervision, 1700 G Street, NW., Washington, DC 20552.

Categories of Individuals Covered by the System:

All employees of the Office of Thrift Supervision.

Categories of Records in the System:

Individual employee records are maintained by name, course taken, employee identification number, social security number, position, division, and manager name.

Authority for Maintenance of the System:

5 U.S.C. 301 and 44 U.S.C. 3101.

Purpose(s):

To maintain necessary information on training taken by employees through outside sources and vendors.

Routine Uses of Records Maintained in the System, Including Categories of Users and the Purpose of Such Uses:

(1) Information may be disclosed in civil, criminal, administrative or arbitration proceedings before a court, magistrate, administrative or arbitration tribunal in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding;

(2) To assure that the agency and its employees receive appropriate representation, relevant information may be disclosed to the Department of Justice, private counsel, or an insurance carrier for the purpose of defending an action or seeking legal advice.

Policies and Practices for Storing, Retrieving, Accessing, Retaining, Disposing of Records in the System:

Storage:

Records are maintained on electronic media.

Retrievability:

Records are filed by individual name, employee identification number, social security number, and course taken.

Safeguards:

Access to computerized records is limited, through use of a password, to those persons whose official duties require access.

Retention and Disposal:

Records are retained and disposed of in accordance with National Archives and Records Administration General Records Schedules.

System Manager(s) and Address:

Manager, Professional Development, Office of Thrift Supervision, 1700 G Street, NW., Washington, DC 20552.

Notification Procedure:

Individuals wishing to be notified if they are named in this system or gain access to records maintained in this system must submit a request containing the following elements: (1) Identify the record system; (2) identify the category and type of records sought; and (3) provide at least two items of secondary identification (date of birth, employee identification number, dates of employment or similar information). Address inquiries to FOIA Office, Office of Thrift Supervision, 1700 G Street, NW., Washington, DC 20552.

Records Access Procedures:

See “Notification Procedure” above.

Contesting Record Procedures:

See “Notification Procedure” above.

Record Source Categories:

Personnel records and individual development plans completed by employee and supervisor.

Exemptions Claimed for the System:

None.

TREASURY/OTS .011

System Name:

Positions/Budget.

System Location:

(1) Office of Thrift Supervision, 1700 G Street, NW., Washington, DC 20552.

(2) Northeast Region: Harborside Financial Center Plaza Five, Suite 1600, Jersey City, NJ 07311.

(3) Southeast Region: 1475 Peachtree Street, NE., Atlanta, GA 30309.

(4) Midwest Region: 225 E. John Carpenter Freeway, Suite 500, Irving, TX 75062.

(5) West Region: Pacific Plaza, 2001 Junipero Serra Boulevard, Suite 650, Daly City, CA 94014.

Categories of Individuals Covered by the System:

All current employees of the Office of Thrift Supervision.

Categories of Records in the System:

Individual employee records are kept by office and agency as follows: Name, title, entered on duty date, service computation date, occupation series, social security number, grade, current salary, location of employee, date of last promotion, and eligibility for promotion. Records are kept for each office (and, where appropriate, for the agency) on number of vacancies, authorized position ceilings, and number of employees.

Authority for Maintenance of the System:

5 U.S.C. 301, 44 U.S.C. 3101.

Purpose(s):

The system allows the OTS Budget Division the ability to track positions by Office to assure that assigned Full-Time Equivalent ceilings are not exceeded and remain within the limits set by the Director of the OTS. The system also provides information to each office which can be used in developing their calendar year compensation budget.

Routine Uses of Records Maintained in the System, Including Categories of Users and the Purpose of Such Uses:

(1) Information may be disclosed to the appropriate governmental agency charged with the responsibility of administering law or investigating or prosecuting violations of law or charged with enforcing or implementing a statute, rule, regulation, order, or license.

(2) Information may be disclosed in civil, criminal, administrative or arbitration proceedings before a court, magistrate, administrative or arbitration tribunal in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding;

(3) To assure that the agency and its employees receive appropriate representation, relevant information may be disclosed to the Department of Justice, private counsel, or an insurance carrier for the purpose of defending an action or seeking legal advice.

Policies and Practices for Storing, Retrieving, Accessing, Retaining, Disposing of Records in the System:

Storage:

Records are maintained in paper files and on electronic media.

Retrievability:

Records are filed by name of individual.

Safeguards:

Paper records are maintained in file folders in secured areas. Access is limited to personnel whose official duties require such access and who have a need to know the information in a record for a particular job-related purpose. Access to computerized records is limited, through use of a password, to those whose official duties require access.

Retention and Disposal:

Records are retained and disposed of in accordance with National Archives and Records Administration General Records Schedules.

System Manager(s) and Address:

Managing Director, Information Systems, Administration and Finance, Office of Thrift Supervision, 1700 G Street, NW, Washington, DC 20552.

Notification Procedure:

Individuals wishing to be notified if they are named in this system or gain access to records maintained in this system must submit a request containing the following elements: (1) Identify the record system; (2) identify the category and type of records sought; and (3) provide at least two items of secondary identification (date of birth, employee identification number, dates of employment or similar information). Address inquiries to FOIA Office, Office of Thrift Supervision, 1700 G Street, NW., Washington, DC 20552.

Records Access Procedures:

See “Notification Procedure” above.

Contesting Record Procedures:

See “Notification Procedure” above.

Record Source Categories:

Personnel records.

Exemptions Claimed for the System:

None.

TREASURY/OTS .012

System Name:

Payroll/Personnel System & Payroll Records.

System Location:

(1) Office of Thrift Supervision, 1700 G Street, NW., Washington, DC 20552.

(2) Northeast Region: Harborside Financial Center Plaza Five, Suite 1600, Jersey City, NJ 07311.

(3) Southeast Region: 1475 Peachtree Street, NE., Atlanta, GA 30309.

(4) Midwest Region: 225 E. John Carpenter Freeway, Suite 500, Irving, TX 75062.

(5) West Region: Pacific Plaza, 2001 Junipero Serra Boulevard, Suite 650, Daly City, CA 94014.

Categories of Individuals Covered by the System:

All current Office of Thrift Supervision (OTS) employees and all former employees of the OTS, within the past three years.

Categories of Records in the System:

Information pertaining to (1) employee status, grade, salary, pay plan, hours worked, hours of leave taken and earned, hourly rate, gross pay, taxes, deductions, net pay, location, and payroll history; (2) employee's residence, office, social security number, and address; (3) Personnel actions (SF-50), State employees' withholding exemption certificates, Federal employee' withholding allowance certificates (W4), Bond Allotment File (SF-1192), Federal Employee's Group Life Insurance (SF-2810 and 2811), Savings Allotment-Financial Institutions, Address File (OTS Form 108), Union Dues Allotment, time and attendance reports, individual retirement records (SF-2806), Combined Federal Campaign allotment, direct deposit, health benefits, and thrift investment elections to either the Federal Thrift Savings Plan (TSP-1) or OTS’ Financial Institutions Thrift Plan (FITP-107 and K1-2).

Authority for Maintenance of the System:

5 U.S.C. 301 and 44 U.S.C. 3101.

Purpose(s):

Provides all the key personnel and payroll data for each employee which is required for a variety of payroll and personnel functions.

Routine Uses of Records Maintained in the System, Including Categories of Users and the Purpose of Such Uses:

(1) In the event that records maintained in this system of records indicate a violation or potential violation of law, whether civil, criminal or regulatory in nature, and whether arising by general statute or particular program statute, or by regulation, rule or order pursuant thereto, the relevant records in the system of records may be referred, as a routine use, to the appropriate agency, whether Federal, State, local, or foreign, charged with the responsibility of implementing the statute, or rule or regulation or order issued pursuant thereto;

(2) A record from this system may be disclosed to other Federal agencies and the Office of Personnel Management if necessary for or regarding the payment of salaries and expenses incident to employment at the Office of Thrift Supervision or other Federal employment, or the vesting, computation, and payment of retirement or disability benefits;

(3) A record from this system may be disclosed if necessary to support the assessment, computation, and collection of Federal, State, and local taxes, in accordance with established procedures;

(4) Disclosure of information may be made to a Congressional office in response to an inquiry made at the request of the individual to whom the record pertains;

(5) Records from this system may be disclosed to the Office of Child Support Enforcement, Administration for Children and Families, Department of Health and Human Services, for the purpose of locating individuals to establish paternity, establishing and modifying orders of child support, and identifying sources of income, and for other support enforcement actions as required by the Personal Responsibility and Work Opportunity Reconciliation Act (Welfare Reform Law, Pub. L. 104-193);

(6) Information may be disclosed in civil, criminal, administrative or arbitration proceedings before a court, magistrate, administrative or arbitration tribunal in the course of pre-trial discovery, motions, trial, appellate review, or in settlement negotiations, when OTS, the Director of OTS, an OTS employee, the Department of Treasury, the Secretary of Treasury, or the United States is a party or has an interest in or is likely to be affected by such proceeding and an OTS attorney determines that the information is arguably relevant to that proceeding;

(7) To assure that the agency and its employees receive appropriate representation in legal proceedings, relevant information may be disclosed to the Department of Justice, private counsel, or an insurance carrier for the purpose of defending an action or seeking legal advice;

(8) Information may be disclosed to respond to governmental authorities in connection with garnishment proceedings;

(9) Information may be disclosed to private creditors for the purpose of garnishment of wages of an employee if the debt has been reduced to a judgment.

Policies and Practices for Storing, Retrieving, Accessing, Retaining, Disposing of Records in the System:

Storage:

Records are maintained on electronic media, microfiche, and in paper files.

Retrievability:

Records are filed by individual name, social security number, and by office.

Safeguards:

Paper and microfiche records are maintained in secured offices and access is limited to personnel whose official duties require such access and who have a need to know the information in a record for a particular job-related purpose. Access to computerized records is limited, through the use of a password, to those persons whose official duties require access.

Retention and Disposal:

Records are retained and disposed of in accordance with National Archives and Records Administration General Records Schedules.

System Manager(s) and Address:

Manager, Payroll and Travel, Office of Thrift Supervision, 1700 G Street, NW., Washington, DC 20552.

Notification Procedure:

Individuals wishing to be notified if they are named in this system or gain access to records maintained in this system must submit a request containing the following elements: (1) Identify the record system; (2) identify the category and type of records sought; and (3) provide at least two items of secondary identification (date of birth, employee identification number, dates of employment or similar information). Address inquiries to FOIA Office, Office of Thrift Supervision, 1700 G Street, NW., Washington, DC 20552.

Records Access Procedures:

See “Notification Procedure” above.

Contesting Record Procedures:

See “Notification Procedure” above.

Record Source Categories:

Personnel and payroll records of current and former employees.

Exemptions Claimed for the System:

None.

[FR Doc. E7-7364 Filed 4-17-07; 8:45 am]

BILLING CODE 6720-01-P